DEPARTMENT OF THE INTERIOR

Bureau of Land Management

[LLCO923000.L14300000.FR0000]

Notice of Proposed Classification of Public Lands/Minerals for State Indemnity Selection, Colorado

AGENCY: Bureau of Land Management, Interior.

ACTION: Notice of Proposed Classification.

SUMMARY: The Colorado State Board of Land Commissioners (State) has filed a petition for classification and application to obtain public lands and mineral estate in lieu of lands to which the State was entitled but did not receive under its Statehood Act. The State did not receive title because the lands had previously been appropriated in an Indian Reservation or National Forests. Under Section 7 of the Taylor Grazing Act of 1934, the Bureau of Land Management (BLM) is proposing to classify sufficient public lands/minerals in Colorado for title transfer to the State to satisfy this obligation to the State.

DATES: Comments must be received by September 3, 2013.

The BLM will not consider or include comments received after the close of the comment period or comments delivered to an address other than that listed below.

Persons asserting a claim to or interest in the lands or mineral estate described in this notice will find the requirements for filing such claims in the SUPPLEMENTARY INFORMATION section.

ADDRESSES: The public may submit comments by mail or hand delivery to: State Director, Colorado State Office, Bureau of Land Management, U.S. Department of the Interior, 2850 Youngfield Street, Lakewood, CO 80215-7093.

FOR FURTHER INFORMATION CONTACT: John D. Beck, Chief, Branch of Lands and Realty, at (303) 239-3882. Persons who use a telecommunications device for the deaf (TDD) may call the Federal Information Relay Service (FIRS) at 1-800-877-8339, to contact the above individual. FIRS is available 24 hours a day, seven days a week to leave a message or question with the above individual. You will receive a reply during normal business hours.

SUPPLEMENTARY INFORMATION: Sections 2275 and 2276 of the Revised Statutes, as amended (43 U.S.C. 851 and 852), provide authority for Colorado to receive title to public lands in lieu of lands to which it was entitled under Section 7 of its statehood act of March 3, 1875, where it did not receive title because the land had previously been appropriated for an Indian reservation or National Forests.

Section 7 of the Taylor Grazing Act of June 8, 1934 requires that such public lands/minerals identified for proposed transfers out of Federal ownership must first be classified. The BLM is proposing to classify these lands/minerals pursuant to 43 CFR Part 2400 and Section 7 of the Act of June 8, 1934 (48 Stat. 1272, as amended), 43 U.S.C. 315(f). For a period until September 3, 2013, all persons who wish to submit comments, suggestions, or objections in connection with this proposed classification may present their views by any means shown under the ADDRESSES section above.

Any adverse comments will be evaluated by the BLM Colorado State Director, who will issue a notice of determination to proceed with, modify, or cancel the proposed action. In the absence of any action by the BLM State Director, this proposed classification action will become the final determination of the Department of the Interior.

Comments, including names and street addresses of respondents and records relating to this proposed classification will be available for public review at the BLM Colorado State Office at the address cited in the ADDRESSES section above during regular business hours. Individual respondents may request confidentiality. Before including your address, phone number, email address, or other personal identifying information in your comment, you should be aware that your entire comment—including your personal identifying information—may be made publicly available at any time. While you can ask in your comment to withhold your personal identifying information from public review, we cannot guarantee that we will be able to do so.

As provided by 43 CFR 2450.4(c), a public hearing may be scheduled by the BLM Colorado State Director if it is determined that sufficient public interest exists to warrant a hearing.

The lands/minerals included within this proposed classification are in Chaffee, Custer, Dolores, Eagle, El Paso, Garfield, Grand, Huerfano, Jackson, Kiowa, La Plata, Moffat, Montezuma, Ouray, Park, Pueblo, Routt and San Miguel counties, Colorado, and are described as follows:

New Mexico Principal Meridian, Colorado

T. 44 N., R. 8 W.,

Sec. 11, lots 12, thru 14;

Sec. 13, lots 17, 28, 30 and 31;

Sec. 14, E½SE¼.

T. 42 N., R. 13 W.,

Sec. 30, NE¼NE¼.

T. 40 N., R. 14 W.,

Sec. 6, lot 13 and NE¼SW¼.

T. 41 N., R. 14 W.,

Sec. 28, S½SW¼;

Sec. 29, SW¼, NE¼SE¼ and S½SE¼;

Sec. 30, N½SE¼;

Sec. 31, N½SE¼;

Sec. 32, N½NW¼ and SW¼NW¼.

T. 43 N., R. 14 W.,

Sec. 2, lots 1 and 2 and S½NE¼.

T. 40 N., R. 15 W.,

Sec. 1, lots 1 thru 4;

Sec. 3, lots 3 and 4;

Sec. 4, lots 1 thru 4;

Sec. 10, N½NE¼ and E½NW¼;

Sec.11, N½, N½SW¼ and SW¼SW¼.

T. 50 N., R. 8 E.,

Sec.7, NE¼NE¼.

Sixth Principal Meridian, Colorado

T. 19 S., R. 45 W.,

Sec. 10, S½NE¼;

Sec. 11, SW¼;

Sec. 14, N½ and SE¼;

Sec. 15, NE¼.

T. 20 S., R. 47 W.,

Sec. 4, S½NW¼, SW¼ and W½SE¼;

Sec. 5, lots 1 thru 4, S½NE¼, S½NW¼, SW¼, and SE¼;

Sec. 8, NE¼NE¼, W½NE¼, SE¼NE¼, NW¼, NE¼SW¼, and NW¼SE¼;

Sec. 9, NE¼, NW¼, N½SW¼, SE¼SW¼, and SE¼;

Sec. 10, SW¼ and SW¼SE¼;

Sec. 15, NW¼NE¼;

Sec. 22, SE¼NE¼ and E½SE¼;

Sec. 23, S½NW¼ and SW¼;

Sec. 26, W½NE¼, NW¼, N½SW¼, and NW¼SE¼;

Sec. 27, NE¼NE¼.

T. 20 S., R. 48 W.,

Sec. 10, W½SW¼;

Sec. 13, S½NW¼, SW¼, and W½SE¼;

Sec. 14, SE¼SW¼ and SE¼;

Sec. 15, W½NW¼ and NW¼SW¼;

Sec. 22, E½SE¼;

Sec. 23;

Sec. 24, NW¼NE¼, NW¼, N½SW¼, and SW¼SW¼;

Sec. 26, NE¼, NW¼, and W½SW¼;

Sec. 27, E½NE¼.

T. 18 S., R. 61 W.,

Sec. 8, SE¼SE¼;

Sec. 19, lots 3 and 4, E½SW¼, and SE¼;

Sec. 30, lots 2, 3, and 4, SE¼NW¼, E½SW¼, and W½SE¼;

Sec. 32.

T. 19 S., R. 61 W.,

Sec. 6, lots 1 thru 7, S½NE¼, SE¼NW¼, E½SW¼, and SE¼;

Sec. 7, E½NE¼ and E½SE¼;

Sec. 8, W½NW¼ and W½SW¼;

Sec. 18, lots 1 thru 4, NE¼, E½NW¼, E½SW¼, and SE¼;

Sec. 19, lots 1 thru 4, NE¼, E½NW¼, and E½SW¼;

Sec. 20;

Sec. 28, E½;

Sec. 29, W½;

Sec. 32, E½;

Sec. 33.

T. 20 S., R. 61 W.,

Sec. 4, lots 1 thru 4, S½NE¼, S½NW¼, SW¼, and SE¼;

Sec. 5, lots 1 and 2, S½NE¼, and SE¼;

Sec.7, lots 2 and 3, and SE¼SW¼;

Sec. 9, E½;

Sec. 18, SW¼SE¼.

T. 16 S., R. 62 W.,

Sec. 24, NW¼NW¼.

T. 17 S., R. 62 W.,

Sec. 1, lot 1 and SE¼NE¼;

Sec. 9, SE¼SE¼.

T. 29 S., R. 69 W.,

Sec. 31, lots 3 and 4, NE¼NE¼, NE¼NW¼, E½SW¼, and SE¼;

Sec. 32, SW¼NW¼, W½SW¼, SE¼SW¼, and SE¼SE¼.

T. 29 S., R. 70 W.,

Sec. 35, lot 1.

T. 22 S., R. 71 W.,

Sec. 5, lots 20, 21, 22, and 23;

Sec. 6, lot 13;

Sec. 8, NW¼NW¼;

Sec. 17, lot 24;

T. 22 S., R. 72 W.,

Sec. 4, lots 41, 42, and 47, and NE¼SE¼;

Sec. 4, Remaining public lands in SW¼NW¼, W½SW¼, SE¼SW¼, and SW¼SE¼;

Sec. 5, Remaining public lands in S½NE¼, SE¼NW¼, E½SW¼, and SE¼, NW¼SW¼;

Sec. 8, Remaining public lands in SE¼SE¼;

Sec. 9, Remaining public lands in W½;

Sec. 12, lot 3 and SE¼SE¼;

Sec. 16, lots 20, 23 thru 36, and lot 38;

Sec. 17, Remaining public lands in NW¼NE¼;

Sec. 22, N½NE¼;

Sec. 26, SE¼SW¼;

Sec. 28, N½SW¼, SE¼SW¼, W½SE¼, and SE¼SE¼.

T. 11 S., R. 74 W.,

Sec. 20, NE¼;

Sec. 21, W½.

T. 12 S., R. 75 W.

Sec. 17, SW¼;

Sec. 18, lots 1 thru 4, E½NW¼, E½SW¼, and SE¼;

Sec. 19, lots 1 and 2, N½NE¼, SW¼NE¼, and E½NW¼.

T. 12 S., R. 76 W.,

Sec. 13, E½SE¼;

Sec. 24, NE¼.

T. 13 S., R. 76 W.,

Sec. 4, lots 2 thru 4, SW¼NW¼, and NW¼SW¼;

Sec. 5, lots 1 thru 4, S½NE¼, S½NW¼, SW¼, and SE¼;

Sec. 6, lots 6 and 7, and E½SW¼.

T. 12 S., R. 77 W.,

Sec. 23, N½SW¼ and N½SE¼;

Sec. 25, S½SE¼;

Sec. 34, NW¼SW¼.

T. 15 S., R. 78 W.,

Sec. 17, SW¼NW¼ (geothermal steam);

Sec. 18, N½SE¼ and SW¼SE¼ (geothermal steam).

T. 4 S., R. 83 W.,

Sec. 17, lots 2 and 5, NE¼SW¼, NW¼SE¼;

Sec. 22, SE¼SE¼;

Sec. 23, lots 6 and 7, and W½SW¼.

T. 7 S., R. 88 W.,

Sec. 7, lots 12 and 13;

Sec. 8, lot 7, SW¼NE¼ and SE¼NW¼;

Sec. 17, lots 3 and 4.

T. 7 S., R. 89 W.,

Sec. 3, lot 1, SE¼NE¼, E½NW¼SE¼, E½W½NW¼SE¼, and E½SE¼;

Sec. 12, lot 22 and W½SW¼;

Sec. 13, NW¼.

T. 5 S., R. 92 W.,

Sec. 30, W½SE¼.

T. 5 S., R. 93 W.,

Sec. 36, NW¼NE¼, N½NW¼, and NE¼SW¼.

T. 1 N., R. 76½ W.,

Sec. 1, lots 15 and 16;

Sec. 12, lots 1 thru 6, and lots 11 and 12.

T. 1 N., R. 77 W.,

Sec. 12, E½NE¼ and NE¼SE¼.

T. 3 N., R. 77 W.,

Sec. 25, S½SW¼ and SW¼SE¼.

T. 4 N., R. 81 W.,

Sec. 34, W½NW¼ and NW¼SW¼.

T. 6 N., R. 81 W.,

Sec. 18, lot 5.

T. 3 N., R. 82 W.,

Sec. 26, lot 1.

T. 6 N., R. 82 W.,

Sec. 13, SE¼SE¼;

Sec. 23, N½NE¼ and SE¼NE¼.

T. 6 N., R. 84 W.,

Sec. 27, SE¼SE¼.

T. 7 N., R. 85 W.,

Sec. 17, W½NE¼.

T. 8 N, R. 85 W.,

Sec. 16, lots 4 and 5.

T. 6 N., R. 86 W.,

Sec. 33, SW¼SW¼.

T. 7 N., R. 88 W.,

Sec. 2, SE¼NW¼.

T. 8 N., R. 88 W.,

Sec. 34, lots 12 thru 15.

T. 7 N., R. 93 W.,

Sec. 36.

The areas described total approximately 23,074 acres.

The State's application requests conveyance of title to Federal mineral estate under surface owned by the State, described as follows:

Sixth Principal Meridian, Colorado

T. 9 N., R. 56 W.,

Sec. 24, SW¼.

T. 12 N., R. 56 W.,

Sec. 28, E½.

T. 11 N., R. 59 W.,

Sec. 15, NE¼.

T. 5 N., R. 61 W.,

Sec. 33, SW¼.

T. 3 N., R. 62 W.,

Sec. 1, SE¼.

T. 17 S., R. 48 W.,

Sec. 18, NW¼NE¼.

T. 21 S., R. 51 W.,

Sec. 35, NE¼SW¼ (oil & gas only).

T. 22 S., R. 52 W.,

Sec. 15, SW¼NE¼, NW¼SW¼, and NW¼SE¼ (oil and gas only).

T. 28 S., R. 69 W.,

Sec. 17, SE¼SE¼;

Sec. 20, NE¼ and NE¼NW¼;

Sec. 21, NE¼, W½NW¼, SE¼NW¼, and NE¼SE¼;

Sec. 22, W½SW¼, SE¼SW¼, and SW¼SE¼;

Sec. 27, NW¼NE¼ and NE¼NW¼.

T. 6 N., R. 79 W.,

Sec. 3, SW¼SW¼;

Sec. 4, lots 3 and 4, SW¼NE¼, S½NW¼, SW¼, and SE¼;

Sec. 5, lots 1 and 2, S½NE¼, and SE¼;

Sec. 8, N½NE¼, SE¼NE¼, and E½SE¼;

Sec. 9;

Sec.10, W½NW¼ and W½SW¼.

T. 7 N., R. 79 W.,

Sec. 32, SE¼;

Sec. 33, W½SW¼.

T. 5 N., R. 88 W.,

Sec. 12, NW¼ and SW¼.

T. 7 N, R. 88 W.,

Sec. 1, SW¼NW¼, W½SW¼, and SE¼SW¼;

Sec. 1, Those portions of SE¼NW¼, NE¼SW¼, NW¼SE¼, and SW¼SE¼that lie west of Routt County Road 80A;

Sec. 2, S½NE¼ and SE¼;

Sec. 10, NE¼ and NW¼;

Sec. 11, N½ and SE¼;

Sec. 12, Those portions of NW¼ and SW¼ that lie west of Routt County Road 80.

The areas described total approximately 6,354 acres.

Rights-of-way granted by the BLM will either transfer with any of the above described land if transferred to the State or may be reserved by the United States. Oil and gas, geothermal, or other leases issued under the authority of the Mineral Leasing Act of 1920 (30 U.S.C. 181 et seq.) will remain in effect under the terms and conditions of the leases.

Colorado state law and the State's procedures provide for the offering to holders of BLM grazing permits, licenses, or leases the first right to lease lands that may be transferred to the State. This notice of proposed classification constitutes the required two-year official notice to present holders of grazing use authorizations from the BLM that such authorizations will be terminated upon transfer of any of the land described above to the State of Colorado (43 CFR 4110.4-2(b)).

For a period until August 16, 2013, persons asserting a claim to, or interest in, the above-described lands or mineral estate, other than holders of leases, permits, or rights-of-way, may file such claim with the BLM Colorado State Director at the address cited in the ADDRESSES section above. You must also provide evidence that a copy thereof has been served on the Board of Land Commissioners, State of Colorado, 1127 Sherman Street, Suite 300, Denver, CO 80203-2206.

Pursuant to 43 CFR 2462.1, publication of this notice of proposed classification in the Federal Register segregates the above described lands from all forms of disposal under the public land laws, including the mining laws, except for the form of land disposal specified in this notice of proposed classification. However, this publication does not alter the applicability of the public land laws governing the use of the lands under lease, license, or permit, or governing the disposal of their mineral and vegetative resources, other than under the mining laws.

The segregative effect of this proposed classification will terminate in one of the following ways:

(1) Classification of the lands within two years of publication of this notice of proposed classification in the Federal Register;

(2) Publication of a notice of termination of the proposed classification in the Federal Register;

(3) An Act of Congress;

(4) Expiration of a two-year period from the date of publication of this notice of proposed classification, or expiration of an additional period, not exceeding two years, if the required notice of an extension for the proposed classification is given.

Authority: 43 CFR part 2400.

Helen M. Hankins,
BLM Colorado State Director.

[FR Doc. 2013-15844 Filed 7-1-13; 8:45 am]

BILLING CODE 4310-JB-P